DEPARTMENT OF THE INTERIOR

Bureau of Land Management

[CO-600-1120-PG-241A]

Notice of Meeting, Southwest Resource Advisory Council (Colorado)

AGENCY: Bureau of Land Management, Interior.

ACTION: Notice of public meeting.

SUMMARY: In accordance with the Federal Land Policy and Management Act and the Federal Advisory Committee Act of 1972, the U.S. Department of the Interior, Bureau of Land Management (BLM) Southwest Resource Advisory Council (RAC), will meet as indicated below.

DATES: The meeting will be held on Friday, November 19, 2004 at the Durango Recreation Center, Eolus Meeting Room, 2700 North Main Avenue in Durango, Colorado, and will begin at 9 a.m. The public comment period will begin at approximately 10:30 a.m. and will end at 12 noon.

SUPPLEMENTARY INFORMATION: The 15-member RAC advises the Secretary of the Interior, through the BLM, on a variety of planning and management issues associated with public land management in Southwest, Colorado. Planned agenda topics include:

Discussion of old business

Summary of the Northern Basin Environmental Impact Statement process, public input received to date, and RAC subgroup perceptions and recommendations for further RAC involvement, and

Public comment

All meetings are open to the public. The public can make oral statements to the Council beginning at 10:30 a.m., or written statements may be submitted for the Council's consideration. Depending on the number of persons wishing to comment and time available, the time for individual oral comments may be limited. Summary minutes for this Council Meeting will be maintained in the Western Slope Office (BLM), 2815 H Road, Grand Junction, Colorado, 81506 and will be available for public inspection and reproduction during regular business hours within thirty (30) days following the meeting. Minutes for this particular meeting will also be made part of the official comment record for the Northern San Juan Basin Coal Bed Methane Draft EIS.

FOR FURTHER INFORMATION CONTACT: Ann Bond, San Juan Public Lands Center, 15 Burnett Court, Durango, Colorado 81301. Phone (970) 385-1219.

Dated: October 1, 2004.
Mark W. Stiles,
San Juan Public Lands Center Manager.

[FR Doc. 04-22627 Filed 10-4-04; 4:05 pm]

BILLING CODE 4310-JB-P